DEPARTMENT OF DEFENSE

Department of the Air Force

[Docket ID: USAF-2025-HQ-0070]

Proposed Collection; Comment Request

AGENCY: Department of the Air Force, Department of Defense (DoD).

ACTION: 60-Day information collection notice.

SUMMARY: In compliance with the Paperwork Reduction Act of 1995, the Department of the Air Force (AF) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 26, 2026.

ADDRESSES: You may submit comments, identified by docket number and title, by any of the following methods:

Federal eRulemaking Portal: http://www.regulations.gov. Follow the instructions for submitting comments.

Mail: Department of Defense, Privacy, Civil Liberties, and Transparency Directorate, Office of the Director, Administration & Management, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to AF Information Collections Office, 1800 Air Force Pentagon, Suite 4C146, Washington, DC 20330, ATTN: Ms. Carlinda Lotson Miller, or call 703-697-4593.

SUPPLEMENTARY INFORMATION:

Title; Associated Form; and OMB Number: Emergency Mass Notification System; OMB Control Number 0701-0162.

Needs and Uses: The Air Force Life Cycle Management Center Command, Control, Communications, Intelligence, and Networks Directorate provides standardized enterprise capabilities across the entire AF in accordance with AF Instruction 10-206, Operational Reporting, as authorized by 5 U.S.C. 7902—Safety Programs and 10 U.S.C. 9013—Secretary of the Air Force. This effort will implement and sustain a cloud based, enterprise-wide AF solution for the Emergency Mass Notification System (EMNS). The AF requires a single notification system to send alert notifications to assigned military personnel, family members, and contractors quickly and effectively in an emergent event. The EMNS will increase the situational awareness for Airmen families and contractors, regardless of their physical location, to enable protective measures when tragic events or emergencies occur. This effort will address the gaps in the notification process.

Affected Public: Individuals or households.

Annual Burden Hours: 16,667 hours.

Number of Respondents: 1,000,000.

Responses per Respondent: 1.

Annual Responses: 1,000,000.

Average Burden per Response: 1 minute.

Frequency: On occasion.

Dated: November 21, 2025.
Stephanie J. Bost,
Alternate OSD Federal Register Liaison Officer, Department of Defense.

[FR Doc. 2025-21166 Filed 11-25-25; 8:45 am]

BILLING CODE 6001-FR-P